DEPARTMENT OF TRANSPORTATION

Federal Aviation Administration

Notice of Intent To Rule on Request To Release Airport Property at the Kearney Municipal Airport, Kearney, NE

AGENCY: Federal Aviation Administration, (FAA), DOT.

ACTION: Notice of request to release airport property.

SUMMARY: The FAA proposes to rule and invites public comment on the release of land at the Kearney Municipal Airport under the provisions of Section 125 of the Wendell H. Ford Aviation Investment Reform Act for the 21st Century (AIR 21).

DATES: Comments must be received on or before January 10, 2011.

ADDRESSES: Comments on this application may be mailed or delivered to the FAA at the following address: Federal Aviation Administration, Central Region, Airports Division, 901 Locust, Kansas City, Missouri 64106-2325. In addition, one copy of any comments submitted to the FAA must be mailed or delivered to Michael J. Tye, City Attorney, City of Kearney, 1419 Central Avenue, P.O. Box 636, Kearney, NE, 68848-0636.

FOR FURTHER INFORMATION CONTACT: Nicoletta Oliver, Airports Compliance Specialist, FAA, Central Region, 901 Locust, Kansas City, MO 64106-2325, (816) 329-2642.

The request to release property may be reviewed in person at this same location.

SUPPLEMENTARY INFORMATION: The FAA proposes to rule and invites public comment on the request to release property at the Kearney Municipal Airport under the provisions of AIR21.

On November 4, 2010, the FAA determined that the request to release property at the Kearney Municipal Airport, submitted by the City of Kearney, met the procedural requirements of the Federal Aviation Administration. The FAA will approve or disapprove the request, in whole or in part, no later than January 7, 2011.

The following is a brief overview of the request.

The City of Kearney requests the release of approximately 170 acres of airport property.

The land is currently not being used for aeronautical purposes. The purpose of this release is to sell the land to Delux Manufacturing Co. Inc. for use as farm land and generate revenue for the airport.

Any person may inspect the request in person at the FAA office listed above under FOR FURTHER INFORMATION CONTACT.

In addition, any person may, upon request, inspect the application, notice and other documents that are relevant to the request, in person at the City of Kearney, Kearney, Nebraska.

Issued in Kansas City, Missouri, on November 16, 2010.
Jim A. Johnson,
Manager, Airports Division, Central Region.

[FR Doc. 2010-30976 Filed 12-8-10; 8:45 am]

BILLING CODE 4910-13-P